DEPARTMENT OF TRANSPORTATION

Federal Aviation Administration

14 CFR Part 39

[Docket No. FAA-2007-28691; Directorate Identifier 2006-SW-22-AD]

RIN 2120-AA64

Airworthiness Directives; Eurocopter France Model AS355E, F, F1, F2, and N Helicopters

AGENCY: Federal Aviation Administration, DOT.

ACTION: Notice of proposed rulemaking (NPRM).

SUMMARY: This document proposes superseding an existing airworthiness directive (AD) for the specified Eurocopter France (ECF) helicopters. That AD currently requires certain checks of the magnetic chip detector plug (chip detector) and the main gearbox (MGB) oil-sight glass, certain inspections of the lubrication pump (pump), and replacing the MGB and the pump with an airworthy MGB and pump, if necessary. Also, the AD requires that before an MGB or pump with any hours time-in-service (TIS) can be installed, it must meet the AD requirements. This action would retain those requirements but would add all serial-numbered pumps to the applicability. This proposal is prompted by additional cases of MGB lubrication pump deterioration and a further investigation that determined that all serial-numbered pumps might be affected. The actions specified by the proposed AD are intended to detect sludge on the chip detector and dark oil in the MGB, to prevent failure of the MGB pump, seizure of the MGB, loss of drive to an engine and main rotor, and subsequent loss of control of the helicopter.

DATES: Comments must be received on or before September 11, 2007.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: U.S. Department of Transportation, Docket Operations, M-30, West Building Ground Floor, Room W12-140, 1200 New Jersey Avenue, SE., Washington, DC 20590;

• Hand Delivery: Deliver to Mail address above between 9 a.m. and 5 p.m., Monday through Friday, except Federal holidays; or

• Fax: 202-493-2251.

• You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

We invite you to submit any written data, views, or arguments regarding this proposed AD. Send your comments to the address listed under the caption ADDRESSES. Include the docket number “FAA-2007-28691, Directorate Identifier 2006-SW-22-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after the DMS receives them.

Discussion

On May 24, 2006, we issued AD 2003-21-09 R1, Amendment 39-14621 (71 FR 31070, June 1, 2006), to revise AD 2003-21-09. The revised AD required the same actions as AD 2003-21-09 but limited the applicability to ECF helicopters with a pump, part number (P/N) 355A32-0700-01, with a serial number (S/N) 5731 or higher or with a S/N below 5731 if the pump has been overhauled or repaired after June 1, 1995. AD 2003-21-09 R1 was prompted by an investigation that revealed a malfunction occurred after modifying the pump case on certain pumps and after major overhaul and repairs. The requirements of that AD limited the applicability to certain pumps and were intended to detect sludge on the chip detector and dark oil in the MGB, to prevent failure of the MGB pump, seizure of the MGB, loss of drive to an engine and main rotor, and subsequent loss of control of the helicopter.

Since issuing that AD, ECF has issued Revision 1 to Alert Service Bulletin (ASB) No. 05.00.40, dated January 5, 2006, which adds pumps, P/N 355A32-0700-01, with a S/N SAR 1, SAR 2, or SAR 5 to its effectivity. Also, Eurocopter has issued Emergency ASB No. 05.00.40, Revision 2, dated December 20, 2006, which supersedes the instructions in Revision 1 and extends the effectivity of these instructions to all serial-numbered pumps, P/N 355A32-0700-01, 355A32-0700-02, and 355A32-0701-00. Revision 2 states that a further incident of MGB pump malfunction has been reported since the original four cases and shows that the machining modification of the earlier pumps is not the only reason for early deterioration of the oil pumps. The DGAC classified these ASBs as mandatory and issued AD No. F-2006-027, Revision A, dated February 1, 2006, and Emergency AD No. 2006-0378-E, effective December 27, 2006, which supersedes and cancels AD No. F-2006-027.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This previously described unsafe condition is likely to exist or develop on other helicopters of the same type designs. Therefore, the proposed AD would supersede AD 2003-21-09 R1 and retain the requirements in that AD but would also require adding pumps, P/N 355A32-0700-01, 355A32-0700-02, and 355A32-0701-00, any S/N, to the applicability.

The FAA estimates that this proposed AD would affect 84 helicopters of U.S. registry, assuming they all have MGB pumps with applicable S/Ns. It would take about:

• 10 minutes to check the chip detector and the MGB oil sight glass,

• 4 work hours to remove the MGB and pump,

• 1 work hour to inspect the pump,

• 4 work hours to install a serviceable MGB and pump at an average labor rate of $80 per work hour, and

• $4,000 for an overhauled pump and up to $60,000 for an overhauled MGB per helicopter.

Based on these figures, we estimate the revised total cost impact of the AD on U.S. operators to be $355,920 per year, assuming replacement of one overhauled MGB and pump on one helicopter per year and a daily check on all helicopters for 260 days per year.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-14621 (71 FR 31070, June 1, 2006), and by adding a new airworthiness directive (AD), to read as follows:

Eurocopter France: Docket No. FAA-2007-28691; Directorate Identifier 2006-SW-22-AD. Supersedes AD 2003-21-09 R1, Amendment 39-14621, Docket No. 2003-SW-10-AD.

Applicability: Model AS355E, F, F1, F2, and N helicopters, with a main gear box (MGB) lubrication pump (pump), part number (P/N) 355A32-0700-01, 355A32-0700-02, or 355A32-0701-00, any serial number (S/N), certificated in any category.

Compliance: Required as indicated, unless accomplished previously.

To detect sludge on the chip detector and dark oil in the MGB, to prevent failure of the MGB pump, seizure of the MGB, loss of drive to an engine and main rotor, and subsequent loss of control of the helicopter, do the following:

(a) Before the first flight of each day and at intervals not to exceed 10 hours time-in-service (TIS), check the MGB magnetic chip detector plug (chip detector) for any sludge. Also, check for dark oil in the MGB oil-sight glass. An owner/operator (pilot) holding at least a private pilot certificate may perform this visual check and must enter compliance into the aircraft maintenance records in accordance with 14 CFR 43.11 and 91.417(a)(2)(v). “Sludge” is a deposit on the chip detector that is typically dark in color and in the form of a film or paste, as compared to metal chips or particles normally found on a chip detector. Sludge may have both metallic or nonmetallic properties, may consist of copper (pinion bearing), magnesium (pump case), and steel (pinion) from the oil pump, and a nonmetallic substance from the chemical breakdown of the oil as it interacts with the metal.

(b) Before further flight, if any sludge is found on the chip detector, remove, open, and inspect the pump.

(c) Before further flight, if the oil appears dark in color when it is observed through the MGB oil-sight glass, take an oil sample. If the oil taken in the sample is dark or dark purple, before further flight, remove, open, and inspect the pump.

Note 1: Eurocopter France Alert Service Bulletin (ASB) No. 05.00.40, Revision 1, dated January 5, 2006, and Emergency ASB No. 05.00.40, Revision 2, dated December 20, 2006, pertain to the subject of this AD.

(d) While inspecting the pump, if you find any of the following, replace the MGB and the pump with an airworthy MGB and pump before further flight:

(1) Crank pin play,

(2) Out of round bronze bushing in area “A” of Figure 1 of this AD,

(3) Offset of the driven gear pinion,

(4) Metal chips, or

(5) Wear in area “C” of Figure 1 of this AD.

BILLING CODE 4910-13-P

Note 2: If wear is present in the B area only, as depicted in Figure 1, replacing the MGB and the pump is not required.

(e) Before replacing an MGB with a pump to which this AD applies, accomplish the requirements of paragraphs (a), (b), and (c) of this AD.

(f) To request a different method of compliance or a different compliance time for this AD, follow the procedures in 14 CFR 39.19. Contact the Manager, Safety Management Group, Rotorcraft Directorate, FAA, ATTN: Ed Cuevas, Fort Worth, Texas 76193-0111, telephone (817) 222-5355, fax (817) 222-5961, for information about previously approved alternative methods of compliance.

Note 3: The subject of this AD is addressed in Direction Generale De L'Aviation Civile (France) AD No. F-2006-027, dated February 1, 2006, and Emergency AD No. 2006-0378-E, dated December 21, 2006.

Issued in Fort Worth, Texas, on July 2, 2007.
David A. Downey,
Manager, Rotorcraft Directorate, Aircraft Certification Service.

[FR Doc. E7-13624 Filed 7-12-07; 8:45 am]

BILLING CODE 4910-13-C